DEPARTMENT OF LABOR

Employment and Training Administration

[TA-W-52,001]

Risdon-AMS USA, Inc., A Wholly-Owned Subsidiary of Crown Holdings, Including Temporary Workers of Central New Hampshire Employment, Laconia, New Hampshire; Amended Certification Regarding Eligibility to Apply for Worker Adjustment Assistance

In accordance with section 223 of the Trade Act of 1974 (19 U.S.C. 2273) the Department of Labor issued a Certification of Eligibility to Apply for Worker Adjustment Assistance on June 24, 2003, applicable to workers of Risdon-AMS USA, Inc., a wholly-owned subsidiary of Crown Holdings, Laconia, New Hampshire. The notice was published in the Federal Register on July 10, 2003 (68 FR 41180).

At the request of the State agency, the Department reviewed the certification for workers of the subject firm. New findings show that the Department incorrectly identified the temp agency firm name. Therefore, the Department is amending the certification determination to correctly identify the temp agency firm title name to read Central New Hampshire Employment.

The amended notice applicable to TA-W-52,001 is hereby issued as follows:

“All workers of Risdon-AMS USA, Inc., a wholly-owned subsidiary of Crown Holdings, Laconia, New Hampshire, and temporary workers of Central New Hampshire Employment producing mascara brush and cup assemblies at Risdon-AMS USA, Inc., a wholly-owned subsidiary of Crown Holdings, Laconia, New Hampshire, who became totally or partially separated from employment on or after June 10, 2002, through June 24, 2005, are eligible to apply for adjustment assistance under section 223 of the Trade Act of 1974.”

Signed at Washington, DC, this 28th day of July, 2003.
Linda G. Poole,
Certifying Officer, Division of Trade Adjustment Assistance.

[FR Doc. 03-20099 Filed 8-6-03; 8:45 am]

BILLING CODE 4510-30-P